FEDERAL MINE SAFETY AND HEALTH REVIEW COMMISSION

Sunshine Act Notice; Cancellation of Meeting Notice

September 15, 2014.

The following Commission meeting has been cancelled. No earlier announcement of the cancellation was possible.

TIME AND DATE: 10:00 a.m., Thursday, September 18, 2014.

PLACE: The Richard V. Backley Hearing Room, Room 511N, 1331 Pennsylvania Avenue NW., Washington, DC 20004 (entry from F Street entrance).

STATUS: Open.

MATTERS TO BE CONSIDERED: The Commission will consider and act upon the following in open session: Secretary of Labor v. State of Alaska, Department of Transportation, Docket No. WEST 2008-1490-M. (Issues include whether MSHA has regulatory jurisdiction over certain equipment because the process in question constitutes “milling.”)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Emogene Johnson,
Administrative Assistant.

[FR Doc. 2014-22346 Filed 9-16-14; 11:15 am]

BILLING CODE 6735-01-P